DEPARTMENT OF COMMERCE

National Telecommunications and Information Administration

Notice of Public Meetings on Copyright Policy Topics

AGENCY: National Telecommunications and Information Administration, U.S. Department of Commerce.

ACTION: Notice of Public Roundtables; Address Updates.

SUMMARY: On April 18, 2014, Department of Commerce's Internet Policy Task Force (Task Force) announced its plan to hold four roundtables in cities across the United States in May, June, and July 2014 regarding the topics identified below, as set forth in the Green Paper on Copyright Policy, Creativity, and Innovation in the Digital Economy (Green Paper). This notice announces the location of the third meeting to be held in Los Angeles, California on July 29, 2014, and provides an update to the location of the fourth meeting to be held in Berkeley, California on July 30, 2014.

DATES: The third roundtable will be held in Los Angeles, California on July 29, 2014. The fourth roundtable will be held in Berkeley, California on July 30, 2014. Both roundtables will begin at 8:30 a.m. Requests to participate and observe are due three weeks in advance of each of the respective roundtables on the following dates, by 5:00 p.m. E.S.T.: July 8, 2014 for the Los Angeles roundtable, and July 9, 2014 for the Berkeley roundtable. The agendas and webcast information will be available a week before each of the roundtables on the Task Force Web site, http://www.ntia.doc.gov/internetpolicytaskforce and the USPTO's Web site, http://www.uspto.gov/ip/global/copyrights/index.jsp.

ADDRESSES: The Task Force will hold the third roundtable on July 29, 2014 at Loyola Law School, Walter J. Lack Reading Room, 919 Albany Street, Los Angeles, California 90015. The Task force will hold the fourth roundtable on July 30, 2014, at UC Berkeley School of Law, Boalt Hall, Booth Auditorium, 215 Bancroft Way, Berkeley, California 94720.

FOR FURTHER INFORMATION CONTACT: For further information regarding the roundtables, please contact Ann Chaitovitz, Ben Golant, or Hollis Robinson, Office of Policy and International Affairs, United States Patent and Trademark Office, Madison Building, 600 Dulany Street, Alexandria, VA 22314; telephone (571) 272-9300. Email questions should be sent to copyrightpolicyroundtable@uspto.gov. Sign up for the USPTO's Copyright Alert subscription at enews.uspto.gov to receive updates about the roundtables. Please direct all media inquiries to the Office of the Chief Communications Officer, USPTO, at (571) 272-8400.

SUPPLEMENTARY INFORMATION: In the Task Force's Green Paper on Copyright Policy, Creativity, and Innovation in the Digital Economy (Green Paper), released on July 31, 2013, and in its later Request for Comments issued on October 3, 2013, the Task Force stated its intention to convene roundtables on certain copyright topics, namely: the legal framework for the creation of remixes, the relevance and scope of the first sale doctrine in the digital environment, and the appropriate calibration of statutory damages in the contexts of individual file sharers and of secondary liability for large-scale infringement. On April 16, 2014, the Task Force announced its plans to hold four roundtables in Nashville, Tennessee on May 21, 2014; Cambridge, Massachusetts on June 25, 2014; Los Angeles, California on July 29, 2014; and Berkeley, California on July 30, 2014.¹ Through this Notice, the Task Force provides the address for the roundtable in Los Angeles, California, and updates the address for the roundtable in Berkeley, California.

¹ See Department of Commerce (Patent and Trademark Office and National Telecommunications and Information Administration), Notice of Public Roundtables, 79 FR 21439 (April 16, 2014), available at http://www.ntia.doc.gov/files/ntia/publications/copyright_issues_notice_of_public_roundtables.pdf.

Interested parties may request to participate in, or to observe, the roundtable discussions by submitting a request form, available at https://www.signup4.net/public/ap.aspx?EID=THEG32E&OID=130.² Participation will entail responding to questions from Task Force members and engaging with other participants, whereas observation will entail listening to, but not participating in, the discussions, although there will be time for observers to comment at the end of the discussion. Parties who wish to attend roundtables in multiple locations should submit a separate request form for each location. When completing request forms, interested parties should identify the particular discussion or discussions they wish to participate in or observe. The Task Force will respond to the requests to participate or observe two weeks before the day the roundtable will be held. Please note that the Task Force may not be able to grant all requests but will seek to maximize participation to the extent possible.

² Individuals who are unable to send requests via the Web site should contact Hollis Robinson at (571) 272-9300 to make alternative arrangements for submission of their requests to participate.

Participants and observers should arrive at least one-half hour prior to the start of the roundtable and must present valid government-issued photo identification upon arrival. The Task Force will provide additional information on directions and parking in the agendas for each of the roundtables.

The roundtables will be webcast. A transcription service will also be present. The transcriptions will be made available on both the Task Force and USPTO Web sites after each roundtable.

The roundtables will be physically accessible to people with disabilities. Individuals requiring accommodation, such as sign language interpretation, real-time captioning of the webcast or other ancillary aids, should communicate their needs to Hollis Robinson, Office of Policy and International Affairs, United States Patent and Trademark Office, Madison Building, 600 Dulany Street, Alexandria, VA 22314; telephone (571) 272-9300; email hollis.robinson@uspto.gov, at least seven (7) business days prior to the roundtable.

Dated: June 12, 2014.
Kathy Smith,
Chief Counsel.

[FR Doc. 2014-14092 Filed 6-16-14; 8:45 am]

BILLING CODE 3510-60-P